DEPARTMENT OF EDUCATION

Applications for New Awards: Technical Assistance and Dissemination To Improve Services and Results for Children With Disabilities—Technical Assistance Center To Support Implementation of Evidence-Based Practices

AGENCY: Office of Special Education and Rehabilitative Services, Department of Education.

ACTION: Notice.

Overview Information:

Technical Assistance and Dissemination to Improve Services and Results for Children with Disabilities—Technical Assistance Center to Support Implementation of Evidence-based Practices.

Notice inviting applications for new awards for fiscal year (FY) 2012.

Catalog of Federal Domestic Assistance (CFDA) Number: 84.326K.

DATES: Applications Available: July 2, 2012.

Deadline for Transmittal of Applications: August 1, 2012.

Full Text of Announcement

I. Funding Opportunity Description

Purpose of Program: The purpose of the Technical Assistance and Dissemination to Improve Services and Results for Children with Disabilities program is to promote the educational achievement of children with disabilities by providing technical assistance (TA), supporting model demonstration projects, disseminating useful information, and implementing activities that are supported by scientifically-based research.

Priority: In accordance with 34 CFR 75.105(b)(2)(v), this priority is from allowable activities specified in the statute or otherwise authorized in the statute (see sections 663 and 681(d) of the Individuals with Disabilities Education Act (IDEA), 20 U.S.C. 1463 and 1481(d)).

Absolute Priority: For FY 2012 and any subsequent year in which we make awards from the list of unfunded applicants from this competition, this priority is an absolute priority. Under 34 CFR 75.105(c)(3) we consider only applications that meet this priority.

This priority is:

Technical Assistance Center to Support Implementation of Evidence-based Practices.

Background:

The purpose of this priority is to fund a cooperative agreement for a Technical Assistance Center to Support Implementation of Evidence-based Practices (Center). This Center will assist State educational agencies (SEAs), within-State regional TA providers (regional TA providers), local educational agencies (LEAs), schools, and Department-funded TA providers in improving the educational achievement of children with disabilities in kindergarten through grade 12 (K-12) education systems by building an implementation infrastructure to scale up implementation supports (e.g., training, coaching, administrative support, and data-based decision-making) in order to expand the use of evidence-based practices (EBPs) statewide.

Research has shown that all students, including those with disabilities, benefit from educators' use of EBPs that are matched to student needs (Hattie, 2009). Support from the SEAs, regional TA providers, LEAs, and schools to implement these practices is critical for educators to use EBPs fully and effectively (Mourshed, Chijioke, & Barber, 2010; Rhim, Hassel, & Redding, 2007). Without focused and effective support for implementing EBPs, it is unlikely that the desired student outcomes will be achieved (Vernez, Karam, Mariano, & DeMartini, 2006; Wei, Darling-Hammond, & Adamson, 2010).

To effectively implement EBPs, educators need training that is based on adult learning principles, coaching to support the use of the skills learned in training, administrative support for use of the practices, and assistance with data-based decision-making (Fixsen, Naoom, Blase, Friedman, & Wallace, 2005; Han & Weiss, 2005; Joyce & Showers, 2002; Ransford, Greenberg, Domitrovich, Small, & Jacobson, 2009).

Beyond this, most essential to implementing EBPs are teams of people who are able to initiate and coordinate the various components of these implementation supports, help remove barriers to employing EBPs, and assist administrators in thinking through systemic changes to better support the use of the EBPs (Higgins, Weiner, & Young, 2012; Sugai & Horner, 2006; Turnbull et al., 2002). These teams function as part of the various entities in the education system—the SEA, regional TA provider, LEA, and school—and provide the infrastructure needed to scale up implementation supports statewide that, in turn, facilitate the effective use of EBPs in schools across the State. Having teams of people with specific roles related to providing implementation supports can positively influence the use of EBPs (Hest, 2012; Higgins, Weiner, & Young, 2012). The team at each level of the education system supports the next level (e.g., the SEA supports its regional TA providers), and communication between the teams is important for providing information about barriers and needs related to implementing EBPs. In addition, the teams collect and use data in an evaluation system that supports the effective use of EBPs.

Evaluation is the process of collecting and using information for decision-making (Algozzine et al., 2010). When using EBPs on a large scale, it is important to have an evaluation system that: (a) includes measures and measurement schedules that meet the needs of local decision-makers; and (b) allows for evaluation information to be used for decision-making at the SEA, regional TA provider, LEA, and school levels. An evaluation system provides information to decision-makers on the effectiveness of the implementation supports provided, the fidelity with which core elements of the EBP are implemented, and the effect of the EBP on students' outcomes. The evaluation system also addresses questions related to replication, sustainability, and continuous improvement of an EBP (Algozzine et al., 2010).

Developing and strengthening the implementation infrastructure requires collaboration among the teams at all levels of the educational system to identify improvements that can be made in how: (1) Funds are used; (2) policies affect practice; (3) implementation and impact data can be used to determine the best course of action; (4) personnel and other resources can be repurposed or deployed to support the goal of effective implementation of EBPs; and (5) institutions of higher education (IHEs) and community partnerships can help States build their expertise and enhance their ability to scale up implementation supports (Domitrovich et al., 2008; Lewis, Barrett, Sugai, & Horner, 2010). However, this is long-term, challenging work, and most States have not been able to make the significant, systemic change necessary to create an implementation infrastructure and develop statewide implementation supports (Unger et al., 2008).

The OSEP-funded State Implementation and Scaling Up of Evidence-based Practices TA Center (SISEP) has had success in laying the groundwork for statewide systemic change (for further information visit: www.scalingup.org). This center has helped some SEAs and other entities establish teams at different levels of the education system to lead the review and revision of policies, distribution of funding, and the use of data and human resources to support the scale up of various EBPs.

SISEP created an assessment tool called the State Capacity Assessment (SCA) to evaluate the presence or absence of the components of an implementation infrastructure in the State. SISEP staff used the SCA formatively with States to whom they provided TA and assessed the level of State capacity for providing implementation supports. SISEP observed that each State receiving intensive TA was able to develop components of an implementation infrastructure, although no one State had every component in place.

In partnership with SISEP, SEA teams comprised of Chief State School Officers, general and special education leaders, and other State-level decision-makers have directed large-scale implementation of EBPs. These SEA teams developed guidance to help all education personnel in the States select EBPs for use in the K-12 education system statewide (Horner, Fixsen, Ingram, & Tedesco, 2010). SEA teams also worked with SISEP to develop the evaluation system necessary to measure EBP implementation and impact data and determine the best course of action in making improvements to their implementation supports and infrastructures. The regional TA provider teams helped LEAs develop implementation supports for effective use of EBPs. The LEA teams evaluated the quality of implementation supports for their EBPs to determine the areas of implementation supports that needed strengthening. They also developed school-based teams to support implementation of new EBPs.

As funding for SISEP draws to a close, Department-funded TA providers and SEAs have called for more assistance for building implementation infrastructures and developing implementation supports to ensure EBPs will be consistently and effectively used to improve the educational achievement of children with disabilities. SEAs have recognized the need for an effective implementation infrastructure, and the challenges in establishing it, and those SEAs currently receiving intensive TA have requested continued TA to ensure success. As States continue to develop their implementation infrastructures to scale up implementation supports statewide, the newly funded Center will create tools and provide support to enable these States to continue toward their goals and for other States to replicate their successes.

Accordingly, OSEP proposes to fund a national center to support the implementation of evidence-based practices. This center will build upon and expand the work of SISEP and develop the implementation infrastructures necessary for SEAs, regional TA providers, LEAs, and schools to provide implementation supports statewide and to support the use of EBPs to improve the educational achievement of children with disabilities in grades K-12. Under this priority, the funded center will provide TA to SEAs, LEAs and their corresponding regional TA providers, schools, and Department-funded TA centers.

Priority:

The purpose of this priority is to fund a cooperative agreement for a Technical Assistance Center to Support Implementation of Evidence-based Practices (Center). This Center will assist SEAs, regional TA providers, LEAs, schools, and Department-funded TA providers in improving the educational achievement of children with disabilities in K-12 education systems by building an implementation infrastructure to scale up implementation supports (e.g., training, coaching, administrative support, and data-based decision-making) in order to support EBPs statewide.

Specifically, the Center will (1) Provide assistance to SEAs in developing an implementation infrastructure that will support the effective use of EBPs to improve the educational achievement of children with disabilities throughout a State; (2) assist SEAs, regional TA providers, LEAs, and schools in providing implementation supports for the effective use of EBPs to improve the educational achievement of children with disabilities; (3) assist SEAs, regional TA providers, LEAs, and schools in using funding, policies, data systems, personnel, and partnerships with IHEs and communities to provide implementation supports; (4) assist in building evaluation systems and evaluation measures, when necessary, that SEAs, regional TA providers, LEAs, and schools can use to evaluate the implementation of EBPs, their implementation infrastructure, and their implementation supports; (5) support the expanded use of EBPs in States and LEAs; (6) create training modules and support documents that can help SEAs, regional TA providers, LEAs, and schools strengthen their implementation infrastructure and improve their implementation supports for the effective use of EBPs to improve the educational achievement of children with disabilities; and (7) train Department-funded TA providers so that they can assist States in this work.

To be considered for funding under this absolute priority, applicants must meet the application requirements contained in this priority. Any project funded under this absolute priority also must meet the programmatic and administrative requirements specified in the priority.

Application Requirements. An applicant must include in its application—

(a) A logic model that depicts, at a minimum, the goals, activities, outputs and outcomes of the proposed project. A logic model communicates how a project will achieve its outcomes and provides a framework for both formative and summative evaluations of the project;

Note: The following Web sites provide more information on logic models: www.researchutilization.org/matrix/logicmodel_resource3c.html and www.tadnet.org/model_and_performance.

(b) A plan to implement the activities described in the Project Activities section of this notice;

(c) A plan, linked to the proposed project's logic model, for a formative evaluation of the proposed project's activities. The plan must describe how the formative evaluation will use clear performance objectives to ensure continuous improvement in the operation of the proposed project, including objective measures of progress in implementing the project and ensuring the quality of products and services. This plan should include data collected on all components of the Center activities;

(d) A plan for recruiting and selecting a minimum of three SEAs to receive intensive TA. Each of the selected SEAs must agree to involve their LEAs, their corresponding regional TA providers (if the State is structured in that way), and IHEs in their capacity-building work. The plan must include the criteria the Center will use to select SEAs to receive intensive TA. To participate in the intensive TA, an SEA must agree to work with a minimum of three LEAs—one urban LEA, one rural LEA,¹ and one high-need LEA.² These requirements do not apply to States and entities that do not have at least three LEAs or do not have any LEAs that meet these requirements. The selection of SEAs must be approved by the OSEP project officer;

¹ For purposes of this priority, “rural LEA” means an LEA that is eligible under the Small Rural School Achievement (SRSA) program or the Rural and Low-Income School (RLIS) program authorized under Title VI, Part B of the Elementary and Secondary Education Act of 1965, as amended (ESEA). Applicants may determine whether a particular LEA is eligible for these programs by referring to the information on the following Department Web sites. For SRSA: www2.ed.gov/programs/reapsrsa/index.html. For RLIS: www.ed.gov/programs/reaprlisp/eligibility.html.

² For purposes of this priority, a “high-need LEA” is, consistent with the definition in section 2102(3) of the ESEA, an LEA—(a) That serves not fewer than 10,000 children from families with incomes below the “poverty line” (as that term is defined in section 9101(33) of the ESEA), or for which not less than 20 percent of the children served by the LEA are from families with incomes below the poverty line; and (b) For which there is (1) a high percentage of teachers not teaching in the academic subjects or grade levels that the teachers were trained to teach, or (2) a high percentage of teachers with emergency, provisional, or temporary certification or licensing.

Note: These SEAs must not have previously received intensive TA services from SISEP. The States that previously received intensive TA services from SISEP are Minnesota, North Carolina, and Oregon.

(e) A plan for recruiting and selecting a minimum of six LEAs to receive intensive TA across a minimum of two States that were not selected for intensive TA and have not received intensive TA from SISEP. Each of the selected LEAs must agree to involve SEAs, regional TA providers (as appropriate), schools, and IHEs in their implementation infrastructure development. The plan must include the criteria the Center will use to select LEAs to receive intensive TA and how the Center plans to share information from its work with an LEA with the SEA. The selection of LEAs must be approved by the OSEP project officer;

(f) A plan for a summative evaluation to be conducted by an independent third party;

(g) Attendance at the following:

(1) A one and one half-day kick-off meeting to be held in Washington, DC, after receipt of the award and an annual planning meeting held in Washington, DC, with the OSEP Project Officer during each subsequent year of the project period.

Note: Within 30 days of receipt of the award, a post-award teleconference must be held between the OSEP Project Officer and the grantee's Project Director or other authorized representative.

(2) A three-day Project Directors' Conference in Washington, DC, during each year of the project period.

(3) A two-day Leveraging Resources Conference in Washington, DC, during each year of the project period.

(4) Two, two-day trips annually to attend Department briefings, Department-sponsored conferences, and other meetings, as requested by OSEP; and

(h) A line item in the proposed budget for an annual set-aside of five percent of the grant amount to support emerging needs that are consistent with the proposed project's activities and are identified in consultation with OSEP.

Note: With approval from the OSEP Project Officer, the Center must reallocate any remaining funds from this annual set-aside no later than the end of the third quarter of each budget period.

(i) A line item in the proposed budget to support an information technology expert (to support the webinars, meetings, and video conferences that will be used with intensive and targeted States, and to disseminate information to the public) at a minimum of .25 full-time equivalent (FTE).

Project Activities. To meet the requirements of this priority, the Center, at a minimum, must conduct the following activities:

Knowledge Development Activities.

(a) By the end of the first year of the project period, using the materials developed by SISEP and available at www.scalingup.org, as well as other available resources, develop high-quality, publicly available, training modules appropriate for use by SEAs, regional TA providers, LEAs, schools, IHEs, Department-funded TA centers, and other national TA centers that describe how to develop an implementation infrastructure that supports educators, school administrators, district personnel, and SEA personnel as they develop and use new skills in the implementation of EBPs to improve the educational achievement of children with disabilities. Modules may be developed to accommodate directed, self-directed, or blended (online and offline) learning systems.

Note: All training modules must be available for use at no cost on a dedicated Web site that is easily searchable by topic.

(b) Submit the modules for review to a group of representatives from SEAs and LEAs, including representatives of regional TA providers, schools, families of individuals with disabilities, representatives from IHEs, TA centers, and researchers established under paragraph (c) in the Leadership and Coordination Activities section of this notice, and when the modules are finalized, disseminate them according to the dissemination strategy developed under paragraph (b) of the Technical Assistance and Dissemination Activities section of this notice.

Technical Assistance and Dissemination Activities.

(a) Provide a continuum of TA and dissemination activities that include:

(1) Providing intensive TA to three SEAs, as described in paragraph (d) of the Application Requirements section of this notice, to build the capacity that will enable these SEAs and their designated LEAs and corresponding regional TA providers to—

(i) Establish teams at the SEA, regional TA provider, LEA, and school levels to facilitate the scaling up of implementation supports statewide;

(ii) Determine how to use funding, policies, evaluation systems, personnel, and IHE and community partnerships to provide the implementation supports that facilitate the scaling up of EBPs to improve the educational achievement of children with disabilities;

(iii) Develop and implement a strategy to increase the engagement of stakeholders, including families, to collaboratively support the effective use of EBPs to improve the educational achievement of children with disabilities; and

(iv) Make effective use of an EBP statewide;

(2) Offer, and if accepted, provide continued TA to the three SEAs that have previously received intensive TA from SISEP (Minnesota, North Carolina, and Oregon) to help these SEAs further develop and maintain their implementation infrastructure to scale up implementation supports statewide and to scale up EBPs to improve the educational achievement of children with disabilities.

(3) Providing intensive TA to six additional LEAs in States not receiving intensive TA from the Center to help them develop an implementation infrastructure and to scale up EBPs to improve the educational achievement of children with disabilities. Each LEA must have at least 10 elementary schools, 4 middle schools, and 2 high schools.

(4) Providing targeted TA to SEAs that meet the criteria developed by the Center in collaboration with the OSEP Project Officer to build the implementation infrastructure to scale up implementation supports in order to expand the use of EBPs statewide that will improve the educational achievement of children with disabilities. Targeted TA activities could include—

(i) Assisting SEAs, regional TA providers, LEAs, and schools to use measures that assess the implementation infrastructure, implementation supports, effective use of EBPs to improve the educational achievement of children with disabilities, and student outcomes related to those EBPs, including assisting educational entities (SEAs, regional TA providers, LEAs, and schools) to analyze and use the resulting data to inform and improve implementation efforts;

(ii) Plan and implement activities, which could include webinars, meetings, video conferences, and Web sites to support the educational entities receiving intensive or targeted TA to focus on lessons learned, strategies and tools, and evaluation data related to building an implementation infrastructure to scale up implementation supports statewide that will lead to the effective use of EBPs to improve the educational achievement of children with disabilities.

(5) Widely disseminating the materials developed by the Center and modules described in paragraph (a) of the Knowledge Development Activities section of this notice.

(b) Develop an efficient and high-quality dissemination strategy that reaches a broad audience.

(c) Maintain a Web site that meets government or industry-recognized standards for accessibility and that links to the Web site operated by the Technical Assistance Coordination Center (TACC).

(d) Prepare and disseminate reports, documents, and other materials on infrastructure and support for the effective use of EBPs and related topics as requested by OSEP for specific audiences, including families, educators, administrators, and policymakers. In consultation with the OSEP Project Officer, make selected reports, documents, and other materials available in both English and Spanish.

(e) Prior to developing any new TA product, submit a proposal for each product to the TACC for approval from the OSEP Project Officer. The development of new products should be consistent with the product definition and guidelines posted on the TACC Web site (www.tadnet.org).

(f) Contribute, on an ongoing basis, updated information on the Center's approved and finalized products and services to a database at TACC.

Leadership and Coordination Activities

(a) Collaborate with Department-funded TA&D centers to provide comprehensive assistance aligned to the needs of SEAs, regional TA providers, or LEAs related to supporting the large-scale use of EBPs to improve the educational achievement of children with disabilities.

(b) Collaborate with, and provide training to, the six OSEP-funded Regional Resource Centers and, as appropriate, other Department-funded TA providers. These activities must be designed to provide the TA providers with the skills to help States to build their implementation infrastructure to scale up implementation supports statewide that will lead to the effective use of EBPs to improve the educational achievement of children with disabilities.

(c) Consult with a group of persons, including representatives from SEAs and LEAs, including representatives of regional TA providers, schools, families of individuals with disabilities, representatives from IHEs, TA centers, and researchers, as appropriate, on the activities and outcomes of the Center and solicit programmatic support and advice from various participants in the group, as appropriate. The Center may convene meetings, whether in person, by phone, or other means, for this purpose, or may consult with group participants individually. The Center must identify the members of the group to OSEP within eight weeks after receipt of the award.

(d) Communicate, coordinate, and collaborate on an ongoing basis with Department-funded projects, including the Intensive Interventions Center, Center on Positive Behavioral Interventions and Supports, Center for Technology Implementation, the IDEA Partnership Project, the Regional Resource Centers, the Inclusive School-wide Reform Center, if funded, the national and regional Parent Training Information Centers, as well as TA providers for the Race to the Top States and the Comprehensive Centers, as appropriate. This collaboration could include the joint development of products, the coordination of TA services, and the planning and carrying out of TA meetings and events.

(e) Participate in, organize, or facilitate communities of practice if they align with the Center's objectives and the needs of SEAs, regional TA providers, LEAs, schools, IHEs, Department-funded TA centers, and other national TA providers. The following Web site provides more information on communities of practice: www.tacommunities.org/community/view/id/1027; and

(f) Maintain ongoing communication with the OSEP Project Officer through monthly telephone conversations and email communication.

Fourth and Fifth Years of Project:

In deciding whether to continue funding the Center for the fourth and fifth years, the Secretary will consider the requirements of 34 CFR 75.253(a) and in addition—

(a) The recommendation of a review team consisting of experts selected by the Secretary. This review team will be conducted during a one-day intensive meeting in Washington, DC, that will be held during the last half of the project period's second year. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved outcomes for students with disabilities and students at risk of a disability.

References

Algozzine, B., Horner, R. H., Sugai, G., Barrett, S., Dickey, S. R., Eber, L., Tobin, T. (2010). Evaluation blueprint for school-wide positive behavior support. Eugene, OR: National Technical Assistance Center on Positive Behavior Interventions and Support. Retrieved from www.pbis.org/evaluation/evaluation_blueprint.aspx.

Domitrovich, C. E., Bradshaw, C. P., Poduska, J. M., Hoagwood, K., Buckley, J. A., Olin, S., * * * Ialongo, N.S. (2008). Maximizing the implementation quality of evidence-based preventive interventions in schools: A conceptual framework. Advances in School Mental Health Promotion, 1, 6-27.

Fixsen, D. L., Naoom, S. F., Blase, K. B., Friedman, R. M., & Wallace, F. (2005). Implementation research: A synthesis of the literature. Tampa, FL: National Implementation Research Network, Louis de la Parte Florida Mental Health Institute, University of South Florida. Retrieved from http://nirn.fpg.unc.edu/resources/implementation-research-synthesis-literature.

Han, S. S., & Weiss, B. (2005). Sustainability of teacher implementation of school-based mental health programs. Journal of Abnormal Child Psychology, 33(6), 665-679.

Hattie, J. (2009). Visible Learning: A Synthesis of Over 800 Meta-analyses Relating to Achievement. London: Routledge.

Hest, S. (2012). Social Support in the Workplace and Implementation Outcomes of an Evidence-Based Program. Manuscript submitted for publication.

Higgins, M.C., Weiner, J., & Young, L. (2012). Implementation teams: A new lever for organizational change. Journal of Organizational Behavior, 33(3), 366-388.

Horner, R., Fixsen, D., Ingram, K., & Tedesco, M. (2010). Scaleworthy interventions for statewide implementation. Chapel Hill, NC: State Implementation and Scaling up of Evidence-based Practices Center, University of North Carolina at Chapel Hill.

Joyce, B., & Showers, B. (2002). Student Achievement Through Staff Development (3rd ed.). Alexandria, VA: Association for Supervision and Curriculum Development.

Lewis, T.J., Barrett, S., Sugai, G., Horner, R. H. (2010). Blueprint for schoolwide positive behavior support training and professional development. Eugene, OR: National Technical Assistance Center on Positive Behavior Interventions and Support. Retrieved from: www.pbis.org.

Mourshed, M., Chijioke, C. and Barber, M. (2010). How the World's Most Improved School Systems Keep Getting Better. London: McKinsey & Company.

Ransford, C. R., Greenberg, M. T., Domitrovich, C. E., Small, M., & Jacobson, L. (2009). The Role of Teachers' Psychological Experiences and Perceptions of Curriculum Supports on the Implementation of a Social and Emotional Learning Curriculum. School Psychology Review, 38(4), 510-532.

Rhim, L.M., Hassel, B., & Redding, S. (2007). State Role in Supporting School Improvement. In S. Redding & H.J. Walberg (Eds.) Handbook on Statewide Systems of Support (pp. 21-56). Chicago, IL: Information Age Publishing.

Sugai, G., & Horner, R. R. (2006). A Promising Approach for Expanding and Sustaining School-Wide Positive Behavior Support. School Psychology Review, 35(2), 245-259.

Turnbull, A., Edmonson, H., Griggs, P., Wickham, D., Sailor, W., Freeman, R., * * * Warren, J. (2002). A blueprint for schoolwide positive behavior support: Implementation of three components. Exceptional Children, 68(3), 377-402.

Unger, C., Lane, B., Cutler, E., Lee, S., Whitney, J., Arruda, E., & Silva, M. (2008). How can state education agencies support district improvement: A conversation amongst educational leaders, researchers, and policy actors. Providence, RI: The Education Alliance at Brown University.

Vernez, G., Karam, R., Mariano, L. T., & DeMartini, C. (2006). Evaluating comprehensive school reform models at scale: Focus on implementation. Santa Monica, CA: RAND Corporation.

Wei, R. C., Darling-Hammond, L., and Adamson, F. (2010). Professional development in the United States: Trends and challenges. Dallas, TX: National Staff Development Council.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to IHEs only.

II. Award Information

Type of Award: Cooperative agreement.

Estimated Available Funds: $1,100,000.

Contingent upon the availability of funds and the quality of applications, we may make additional awards in FY 2013 from the list of unfunded applicants from this competition.

Maximum Awards: We will reject any application that proposes a budget exceeding $1,100,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—

(a) The project funded under this competition must make positive efforts to employ and advance in employment qualified individuals with disabilities (see section 606 of IDEA).

(b) Applicants and the grant recipient funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office. To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. Fax: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.326K.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: July 2, 2012.

Deadline for Transmittal of Applications: August 1, 2012.

Applications for grants under this competition may be submitted electronically using the Grants.gov Apply site (Grants.gov), or in paper format by mail or hand delivery. For information (including dates and times) about how to submit your application electronically, or in paper format by mail or hand delivery, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications.

We are participating as a partner in the Governmentwide Grants.gov Apply site. The Technical Assistance Center to Support Implementation of Evidence-based Practices competition, CFDA number 84.326K, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Technical Assistance Center to Support Implementation of Evidence-based Practices competition at www.Grants.gov. You must search for the downloadable application package for this competition by the CFDA number. Do not include the CFDA number's alpha suffix in your search (e.g., search for 84.326, not 84.326K).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: The Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.326K), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326K), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Jennifer Coffey, U.S. Department of Education, 400 Maryland Avenue SW., Room 4097, Potomac Center Plaza (PCP), Washington, DC 20202-2600. Telephone: (202) 245-6673.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 27, 2012.
Alexa Posny,
Assistant Secretary for Special Education and Rehabilitative Services.

[FR Doc. 2012-16173 Filed 6-29-12; 8:45 am]

BILLING CODE 4000-01-P